DEPARTMENT OF DEFENSE

Department of the Army; Corps of Engineers

U.S. Army Corps of Engineers (Corps) Regulatory Guidance Letter (RGL) 07-02: Exemptions for Construction or Maintenance of Irrigation Ditches and Maintenance of Drainage Ditches under Section 404 of the Clean Water Act (CWA)

AGENCY: U.S. Army Corps of Engineers, Department of Defense.

ACTION: Notice of availability.

SUMMARY: The Corps issued RGL 07-02 to further explain the regulatory exemptions for construction or maintenance of irrigation ditches and maintenance of drainage ditches consistent with Section 404(f) of the CWA (33 U.S.C. 1251 et seq.) and implementing regulations. Specifically, the RGL clarifies when Section 404(f) exempts from permitting requirements discharges of dredged or fill material into waters of the United States associated with the construction and maintenance of irrigation ditches and maintenance of drainage ditches. The RGL also clarifies how certain terms in the regulations at 33 CFR 323.4 are applied in the context of the Sections 404(f) exemptions, including irrigation ditch, drainage ditch, construction, and maintenance. In addition, the guidance provides a framework for determining the applicability of the exemptions and the recapture provision, consistent with the CWA and implementing regulations. This RGL was effective July 4, 2007.

DATES: Comments must be received on or before February 11, 2008.

ADDRESSES: Submit your comments, identified by docket number COE-2007-0038, by one of the following methods:

• http://www.regulations.gov: Follow the on-line instructions for submitting comments.

• E-mail: Kimberly.S.McLaughlin@usace.army.mil. Include the docket number, COE-2007-0038 in the subject line of the message.

• Mail: 441 G Street, NW., Washington, DC 20314.

• Hand Delivery: 441 G Street, NW., Washington, DC 20314. Such deliveries are only accepted during normal hours of operation, and special arrangements should be made for deliveries of boxed information.

Instructions: Direct your comments to docket number COE-2007-0038. The Corps's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means the Corps will not know your identity or contact information unless you provide it in the body of your comment. If you send an e-mail comment directly to the Corps without going through www.regulations.gov your e-mail address will be automatically captured and included as part of the comment that is placed in the public docket and made available on the Internet. If you submit an electronic comment, the Corps recommends that you include your name and other contact information in the body of your comment and with any disk or CD-ROM you submit. If the Corps cannot read your comment due to technical difficulties and cannot contact you for clarification, the Corps may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at 441 G Street, NW., Washington, DC 20314. The Public Reading Room is open from 8:30 a.m. to 4:30 p.m., Monday through Friday, excluding legal holidays.

FOR FURTHER INFORMATION CONTACT: Kim McLaughlin, Regulatory Community of Practice (CECW-CO), U.S. Army Corps of Engineers, Headquarters, 441 G Street, NW., Washington, DC 20314; telephone number: (202) 761-7763; fax number: (202) 761-5096; e-mail address: Kimberly.S.McLaughlin@usace.army.mil.

SUPPLEMENTARY INFORMATION:

I. General Information

The Corps is requesting public comment on RGL 07-02, which is available at: http://www.usace.army.mil/cw/cecwo/reg/rgls/rgl07-02.pdf.

At the same time, the Corps appreciates that the public has considerable interest in the issues addressed in this guidance. The Corps is particularly interested in hearing from the public regarding their actual experience with implementing the guidance. The Corps is providing a 60-day public comment period, and encourages the public to provide comments informed by actual experience. To assure the public of our commitment to carefully consider their comments, and to address issues that may unexpectedly arise during implementation of the guidance, the Corps may within one year from the date of issuance reissue, revise, or suspend the guidance. The Corps intends to provide examples and best management practices, including clarification of key terminology, upon receipt and consideration of public comments.

Dated: December 4, 2007.
Michael G. Ensch,
Chief, Operations, Directorate of Civil Works.

[FR Doc. E7-24191 Filed 12-12-07; 8:45 am]

BILLING CODE 3710-92-P